DEPARTMENT OF AGRICULTURE

Forest Service

Central Montana Resource Advisory Committee

AGENCY: Forest Service, USDA.

ACTION: Notice of meeting.

SUMMARY: The Central Montana Resource Advisory Committee will meet in Stanford, MT. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and approve project proposals for Fiscal Year 2013.

DATES: The meeting will be held September 20, 2012, 7 p.m.

ADDRESSES: The meeting will be held at the Judith Ranger District, 109 Central Ave., Stanford, MT. VTC/Telephone will be available. Written comments may be submitted as described under Supplementary Information. All comments, including names and addresses when provided, are placed in the record and are available for public inspection and copying. The public may inspect comments received at the Judith Ranger District in Stanford. Please call ahead to (406) 566-2292 to facilitate entry into the building to view comments.

FOR FURTHER INFORMATION CONTACT: Ron Wiseman, District Ranger, (406) 566-2292 or rwiseman@fs.fed.us. Individuals who use telecommunication devices for the deaf (TDD) may call the Federal Information Relay Service (FIRS) at 1-800-877-8339 between 8 a.m. and 8 p.m., Eastern Standard Time, Monday through Friday.

SUPPLEMENTARY INFORMATION: The following business will be conducted:

1. Status and review of 2012 projects.

2. Review and approval of FY13 projects.

3. Other matters raised at meeting.

Anyone who would like to bring related matters to the attention of the committee may file written statements with the committee staff before the meeting. The agenda will include time for people to make oral statements of three minutes or less. Individuals wishing to make an oral statement should request in writing by September 14, 2012 to be scheduled on the agenda. Written comments and requests for time for oral comments must be sent to Judith Ranger District, 109 Central Ave., Stanford, MT 59479, or by email to rwiseman@fs.fed.us, or via facsimile to (406) 566-2408. A summary of the meeting will be posted at http://www.fs.usda.gov/lcnf within 21 days of the meeting.

Meeting Accommodations: If you require sign language interpreting, assistive listening devices or other reasonable accommodation please request this in advance of the meeting by contacting the person listed in the section titled FOR FURTHER INFORMATION CONTACT. All reasonable accommodation requests are managed on a case-by-case basis.

Dated: August 29, 2012.
Ron B. Wiseman,
Designated Federal Officer.

[FR Doc. 2012-21809 Filed 9-4-12; 8:45 am]

BILLING CODE 3410-11-M